DEPARTMENT OF LABOR

Mine Safety and Health Administration

Proposed Information Collection Request Submitted for Public Comment and Recommendations; Noise Exposure Assessment; Audiometric Testing, Evaluation, and Records and Training in all Mines

AGENCY: Mine Safety and Health Administration, Labor.

ACTION: Notice.

SUMMARY: The Department of Labor, as part of its continuing effort to reduce paperwork and respondent burden, conducts a preclearance consultation program to provide the general public and Federal agencies with an opportunity to comment on the continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Mine Safety and Health Administration (MSHA) is soliciting comments concerning the proposed extension of the information collection related to the Noise Exposure Assessment; Audiometric Testing, Evaluation, and Records and Training in all Mines. MSHA is particularly interested in comments which:

• Evaluate whether the collection of information is necessary for the proper performance of the functions of the agency, including whether the information will have practical utility;

• Evaluate the accuracy of the agency's estimate of the burden of the collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the information collection request can be obtained by contacting the employee listed below in the For Further Information Contact section of this notice.

DATES: Submit comments on or before October 28, 2002.

ADDRESSES: Send comments to David L. Meyer, Director, Office of Administration and Management, 1100 Wilson Boulevard, Room 2125, Arlington, VA 22209-3939. Commenters are encouraged to send their comments on a computer disk, or via Internet e-mail to Meyer-David@msha.gov, along with an original printed copy. Mr. Meyer can be reached at (202) 693-9802 (voice), or (202) 693-9801 (facsimile).

FOR FURTHER INFORMATION CONTACT: Jane Tarr, Management Analyst, Records Management Group, U.S. Department of Labor, Mine Safety and Health Administration, Room 2171, 1100 Wilson Boulevard, Arlington, VA 22209-3939. Ms. Tarr can be reached at Tarr_Jane@msha.gov (Internet e-mail), (202) 693-9824 (voice), or (202) 693-9801 (facsimile). This Information Collection Request (ICB) may be viewed on the Internet by accessing the MSHA home page (http://www.msha.gov) and then choosing “Statutory and Regulatory Information” and “Federal Register Documents.”

SUPPLEMENTARY INFORMATION:

I. Background

Noise is one of the most pervasive health hazards in mining. Exposure to hazardous sound levels results in the development of occupational noise-induced hearing loss (NIHL), a serious physical, psychological, and social problem. NIHL can be distinguished from aging and medical factors, diagnosed, and prevented. NIHL is among the “top ten” leading occupational diseases and injuries.

For many years, the risk of acquiring an NIHL was accepted as an inevitable consequence associated with mining occupations. Miners use mechanized equipment and work under conditions that often expose them to hazardous sound levels. But MSHA standards, OSHA standards, military standards, and others around the world have been established in recognition of the controllability of this risk. Records of miner exposures are necessary so that mine operators and MSHA can evaluate the need for and effectiveness of engineering controls, administrative controls, and personal protective equipment to protect miners from harmful levels of exposure.

II. Current Actions

Records of miner exposures are necessary so that mine operators and MSHA can ensure that engineering controls, administrative controls, and personal protective equipment are used to protect miners from harmful levels of exposure. However, the Agency believes that extensive records for this purpose now maintained by the coal mining sector are not needed, Part 62 replaced these requirements with a performance-oriented approach to monitoring. The final rule expanded notification of exposure information to miners to assist them in becoming more active participants in hearing conservation efforts.

Hearing tests of miners are offered and if a miner takes the test mine operators are required to compile and maintain a record of each audiometric test. Detection of a hearing loss can trigger certain protective actions under Part 62. The record will be used by mine operators and MSHA to verify that the testing was done and the required actions implemented.

Part 62 also requires the mine operator to provide training to overexposed miners about the hazards of noise exposure, hearing protector selection and use, the hearing test program, and the operator's noise controls. Records of training are needed to confirm that miners receive the information they need to become active participants in hearing conservation efforts. There is no existing requirement for such records; however, training records required under other MSHA regulations are used for similar purposes.

Type of Review: Extension.

Agency: Mine Safety and Health Administration.

Title: Noise exposure assessment; audiometric testing, evaluation, and records and training in all mines.

Affected Public: Business or other for-profit institutions.

Cite/reference | Total respondents | Frequency | Total responses | Average time per response (hours) | Burden hours
62.110(a) | 13,552 | Annually | 5,782 | 3.0 | 14,960
62.110(c) | 13,552 | Occasion | 80,699 | 0.09 | 7,028
62.110(d) | 13,552 | Occasion | 215,977 | 0.09 | 18,373
62.130 | 13,552 | Occasion | 26,039 | 0.05 | 1,263
62.170(b) | 13,552 | Occasion | 157,783 | 0.09 | 13,656
62.171(b) | 13,552 | Occasion | 34,203 | 0.09 | 3,061
62.172(a)(1) | 13,552 | Occasion | 34,203 | 0.09 | 2,918
62.172(a)(3) | 13,552 | Occasion | 1,822 | 0.3 | 547
62.173(a) | 13,552 | Occasion | 240 | 0.09 | 21
62.173(b) | 13,552 | Occasion | 61 | 0.15 | 9
62.173(c) | 13,552 | Occasion | 61 | 0.15 | 9
62.174(a) | 13,552 | Occasion | 5,000 | 0.08 | 396
62.175(a)(1) | 13,552 | Occasion | 39,583 | 0.09 | 3,624
62.175(a)(2) | 13,552 | Occasion | 4,951 | 0.1 | 493
62.180(a) | 13,552 | Occasion | 14,702 | 0.35 | 5,146
62.180(b) | 13,552 | Occasion | 171,965 | 0.14 | 23,394
62.190(b) | 13,552 | Occasion | 27,678 | 0.16 | 4,408
62.190(c) | 13,552 | Occasion | 1,094 | 0.64 | 704
Total | 13,552 |  | 821,843 |  | 100,010
Discrepancies due to rounding.

Total Burden Cost (capital/startup): $0.

Total Burden Cost (operating/maintaining): $4,151,367.

Comments submitted in response to this notice will be summarized and/or included in the request for Office of Management and Budget approval of the information collection request; they will also become a matter of public record.

Dated: August 23, 2002.
David L. Meyer,
Director, Office of Administration and Management.

[FR Doc. 02-22020 Filed 8-28-02; 8:45 am]

BILLING CODE 4510-43-M